DEPARTMENT OF AGRICULTURE

Animal and Plant Health Inspection Service

[Docket No. APHIS-2020-0009]

Notice of Availability of an Environmental Assessment for Release of Aphelinus hordei for Biological Control of Russian Wheat Aphid

AGENCY: Animal and Plant Health Inspection Service, USDA.

ACTION: Notice of availability.

SUMMARY: We are advising the public that the Animal and Plant Health Inspection Service has prepared an environmental assessment relative to permitting the release of Aphelinus hordei for the biological control of Russian wheat aphids, a pest of cereal crops, in the Western United States. Based on the environmental assessment and other relevant data, we have reached a preliminary determination that the release of this control agent will not have a significant impact on the quality of the human environment. We are making the environmental assessment available to the public for review and comment.

DATES: We will consider all comments that we receive on or before June 4, 2020.

ADDRESSES: You may submit comments by either of the following methods:

• Federal eRulemaking Portal: Go to http://www.regulations.gov/#!docketDetail;D=APHIS-2020-0009.

• Postal Mail/Commercial Delivery: Send your comment to Docket No. APHIS-2020-0009, Regulatory Analysis and Development, PPD, APHIS, Station 3A-03.8, 4700 River Road, Unit 118, Riverdale, MD 20737-1238.

Supporting documents and any comments we receive on this docket may be viewed at http://www.regulations.gov/#!docketDetail;D=APHIS-2020-0009 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327, email: Colin.Stewart@usda.gov.

SUPPLEMENTARY INFORMATION: Russian wheat aphid is native to Central Asia, the Middle East, Southern Europe, and North Africa, but has spread to various areas such as Australia, South Africa, and North and South America. It was detected in the Western United States in 1986, Russian wheat aphid was discovered in 18 States: Arizona, California, Colorado, Idaho, Kansas, Montana, Nebraska, Nevada, New Mexico, North Dakota, Oklahoma, Oregon, South Dakota, Texas, Utah, Washington, Wisconsin, and Wyoming. This pest has not spread to the eastern areas of the United States. The Russian wheat aphid is wingless, pale yellow-green or gray-green insect lightly dusted with white wax powder that feeds and develops on grass and cereal species; in North America, it thrives best on wheat and barley.

Aphelinus hordei, a tiny, stingless wasp, was chosen as a potential biological control agent due to its narrow host range, and it was the only parasitoid that specialized on Russian wheat aphid.

The Animal and Plant Health Inspection Service's (APHIS') review and analysis of the potential environmental impacts associated with the proposed release are documented in detail in an environmental assessment (EA) entitled “Field Release of Aphelinus hordei (Hymenoptera: Aphelinidae) for Biological Control of the Russian Wheat Aphid, Diuraphis noxia (Hemiptera: Aphididae), in the Continental United States” (February 2018). We are making the EA available to the public for review and comment. We will consider all comments that we receive on or before the date listed under the heading DATES at the beginning of this notice.

The EA may be viewed on the Regulations.gov website or in our reading room (see ADDRESSES above for a link to Regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 24th day of April 2020.
Michael Watson,
Acting Administrator, Animal and Plant Health Inspection Service.

[FR Doc. 2020-09539 Filed 5-4-20; 8:45 am]

BILLING CODE 3410-34-P